DEPARTMENT OF LABOR

Employment and Training Administration

[TA-W-54,885]

Dekko Technology, Inc., Claypool, IN; Notice of Termination of Investigation

Pursuant to section 221 of the Trade Act of 1974, an investigation was initiated on May 11, 2004 in response to a petition filed on behalf of workers at Dekko Technology, Inc., Claypool, Indiana. The petitioners have requested that the petition be withdrawn. Consequently, the investigation has been terminated.

Signed in Washington, DC this 18th day of May 2004.
Richard Church,
Certifying Officer, Division of Trade Adjustment Assistance.

[FR Doc. 04-12628 Filed 6-3-04; 8:45 am]

BILLING CODE 4510-30-P